DEPARTMENT OF COMMERCE

INTERNATIONAL TRADE ADMINISTRATION

(C-570-938)

Citric Acid and Certain Citrate Salts from the People's Republic of China: Notice of Postponement of Preliminary Determination in the Countervailing Duty Investigation

AGENCY: Import Administration, International Trade Administration, Department of Commerce.

EFFECTIVE DATE: June 13, 2008.

FOR FURTHER INFORMATION CONTACT: David Neubacher or Shelly Atkinson, AD/CVD Operations, Import Administration, International Trade Administration, U.S. Department of Commerce, 14th Street and Constitution Avenue, NW, Washington, DC 20230; telephone: (202) 482-5823 and (202) 482-0116, respectively.

SUPPLEMENTARY INFORMATION:

Background

On May 5, 2008, the Department of Commerce (“the Department”) initiated the countervailing duty investigation of citric acid and certain citrate salts from the People's Republic of China. See Notice of Initiation of Countervailing Duty Investigation: Citric Acid and Certain Citrate Salts from the People's Republic of China, 73 FR 26960 (May 12, 2008). Currently, the preliminary determination is due no later than July 9, 2008.

Postponement of Due Date for Preliminary Determination

On June 6, 2008, the Department received a request from Archer Daniels Midland Company, Cargill, and Tate & Lyle Americas, Inc. (collectively, “the petitioners”) to postpone the preliminary determination of the countervailing duty investigation of citric acid and certain citrate salts from the PRC. Under section 703(c)(1)(A) of the Tariff Act of 1930, as amended (the Act), the Department may extend the period for reaching a preliminary determination in a countervailing duty investigation until not later than the 130th day after the date on which the administering authority initiates an investigation if the petitioner makes a timely request for an extension of the period within which the determination must be made under subsection (b) (section 703(b) of the Act). Pursuant to section 351.205(e) of the Department's regulations, the petitioners' request for postponement of the preliminary determination was made 25 days or more before the scheduled date of the preliminary determination. Accordingly, we are extending the due date for the preliminary determination by 65 days to no later than September 12, 2008.

This notice is issued and published pursuant to section 703(c)(2) of the Act.

Dated: June 6, 2008.
David M. Spooner,
Assistant Secretary for Import Administration.

[FR Doc. E8-13341 Filed 6-12-08; 8:45 am]

BILLING CODE 3510-DS-S